DEPARTMENT OF LABOR

Employment and Training Administration

Announcement Regarding Pennsylvania Triggering “Off” Tier Four of Emergency Unemployment Compensation 2008 (EUC08).

AGENCY: Employment and Training Administration, Labor.

ACTION: Notice.

SUMMARY: Announcement regarding Pennsylvania's triggering “off” Tier Four of Emergency Unemployment Compensation 2008 (EUC08).

Public Law 111-312 extended provisions in Public Law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp.

Based on data published March 10, 2011, by the Bureau of Labor Statistics, the following trigger change has occurred for Pennsylvania in the EUC08 program:

• The seasonally-adjusted total unemployment rate for the 3-month period ending January 2011 for Pennsylvania fell below the 8.5% threshold to remain “on” Tier Four of the EUC08 program. As a result, the payable period for Pennsylvania in Tier Four of the EUC08 program will conclude April 2, 2011, and the maximum potential entitlement of 47 weeks will decrease to a maximum potential entitlement of 34 weeks in the EUC08 program.

Information for Claimants

The duration of benefits payable in the EUC program, and the terms and conditions under which they are payable, are governed by Public Laws 110-252, 110-449, 111-5, 111-92, 111-118, 111-144, 111-157, 111-205 and 111-312, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Unemployment Insurance, 200 Constitution Avenue, NW., Frances Perkins Bldg., Room S-4231, Washington, DC 20210, telephone number (202) 693-3008 (this is not a toll-free number) or by e-mail: gibbons.scott@dol.gov.

Signed in Washington, DC, this 28th day of March 2011.
Jane Oates,
Assistant Secretary, Employment and Training Administration.

[FR Doc. 2011-7657 Filed 3-31-11; 8:45 am]

BILLING CODE 4510-FW-P